DEPARTMENT OF DEFENSE

Department of the Army; Corps of Engineers

Intent To Prepare a Draft Programmatic Environmental Impact Statement for Coastal Erosion Protection and Community Relocation, Shishmaref, AK

AGENCY: Department of the Army, U.S. Army Corps of Engineers, DoD.

ACTION: Notice of intent.

SUMMARY: The U.S. Army Engineer District, Alaska, intends to prepare a Draft Programmatic Environmental Impact Statement (DEIS) to evaluate the feasibility of constructing erosion protection alternatives and community relocation alternatives at Shishmaref, Alaska. Shishmaref, population 562, is on a barrier island on the Chukchi Sea on the northwestern coast of Alaska. The shoreline at the community is being rapidly eroded by storm waves possibly because the ice pack has been forming later in the autumn than in the past, allowing more of the force of late season storm energy to reach the shore. The programmatic DEIS will determine whether Federal action is warranted, and if so, and community relocation is selected, site alternatives will be addressed in more detail in a second tier of the EIS process.

FOR FURTHER INFORMATION CONTACT: Lizette Boyer (907) 753-2637, Alaska District, U.S. Army Corps of Engineers, Environmental Resources Section (CEPOA-EN-CW-ER), P.O. Box 6898, Elmendorf AFB, AK 99506-6898. E-mail: Lizette.P.Boyer@poa02.usace.army.mil.

SUPPLEMENTARY INFORMATION: This study is authorized under Section 203, 33 U.S.C. Tribal Partnership Program. The community of Shishmaref has existed on Sherichef Island for centuries. The four-mile-long island, formed by littoral drift, is steadily eroding along the Chucki Sea. As early as the 1950's the community began taking steps to fight the annual erosion problem. Strong wave and current action cause massive scouring and erosion of the fine sand embankment. Bank revetment structures (gabions filled with sand and concrete mattresses) were installed but failed to stop the erosion for long. Severe fall storms in 1989, 1990, and 1997 undermined the protective structures and caused buildings to be moved or abandoned. The late formation of the shorefast ice pack in recent years aggravates erosion damage during fall storms. Without shore protection structures and continued maintenance of them, all the community infrastructure is in jeopardy.

The programmatic DEIS will consider alternatives including the continuation of erosion protection structures to prevent land and property losses. The community has obtained funding for efforts to protect a stretch of the beach to the west of the school property where a Bureau of Indian Affairs road is at risk. The Corps of Engineers currently is conducting an emergency bank protection study to protect the school. Longer term protection for the community would require that erosion protection be extended past the school property and to adjacent roads along the shoreline. The feasibility of further and more extensive bank protection would be analyzed and compared with relocation alternatives. Relocation would mean the abandonment of the Shishmaref community on the island. Relocation alternatives include moving the people of Shishmaref to a larger hub community such as Nome or Kotzebue where they would be incorporated into the fabric of that community; moving the population to a smaller, closer community such as Wales or Deering, which would involve developing additional infrastructure in those locations, and constructing a new town site on the mainland. The last alternative would be based on engineering criteria, historical tribal area boundaries, and corridors to subsistence sites.

Issues: The programmatic DEIS will consider the need of Shishmaref to preserve its community identity and the potential impacts of the alternatives on the cultural resources and infrastructure of the community. In addition, the programmatic DEIS will address the importance of maintaining the community's traditional subsistence lifestyles, while providing modern infrastructure and housing. Issues associated with relocation to an existing community include property and business losses, impacts of social/cultural changes, and impacts on the infrastructure capacity of the receiving location. Issues associated with relocation and construction of a new town site includes engineering constructability criteria and environmental suitability. Constructability criteria include geologic stability, availability of fill material, and potable water sources. Environmental issues include effects to endangered species and wildlife habitat, and justifiable and practicable mitigation measures. Other resources and concerns will be identified through scoping, public involvement, and interagency coordination.

Scoping: A copy of this notice and additional public information will be sent to interested parties to initiate scoping. All parties are invited to participate in the scoping process by identifying any additional concerns, issues, studies, and alternatives that should be considered. A scoping meeting will be held in Shishmaref, Alaska, in early 2004 at a place and time to be announced. The programmatic DEIS is scheduled for release in 2005 or 2006.

Guy R. McConnell,
Chief, Environmental Resources Section.

[FR Doc. 03-29007 Filed 11-19-03; 8:45 am]

BILLING CODE 3710-NL-M